Title 3—

The President

Presidential Determination No. 2009-2 of October 6, 2008

Waiver of Restriction on Providing Funds to the Palestinian Authority

Memorandum for the Secretary of State

October 6, 2008

By the authority vested in me as President by the Constitution and the laws of the United States of America, including section 650(b) of the Department of State, Foreign Operations, and Related Programs Appropriations Act, 2008 (Division J, Public Law 110-161) (the “Act”), as carried forward under section 1417 of the Supplemental Appropriations Act, 2008 (Public Law 110-252) (the “Supplemental”), I hereby certify that it is important to the national security interests of the United States to waive the provisions of section 650(a) of the Act, as carried forward under the Supplemental, in order to provide funds appropriated for fiscal year 2009 under the heading Economic Support Funds to the Palestinian Authority.

You are directed to transmit this determination to the Congress, with a report pursuant to section 650(d) of the Act, as carried forward under the Supplemental, and to publish the determination in the Federal Register.

THE WHITE HOUSE,

Washington, October 6, 2008

[FR Doc. E8-24590

Filed 10-14-08; 8:45 am]

Billing code 4710-01-P